DEPARTMENT OF ENERGY

Federal Energy Regulatory Commission

[Docket No. EL01-51-000, et al.]

The Detroit Edison Company, et al.; Electric Rate and Corporate Regulation Filings

March 15, 2001.

Take notice that the following filings have been made with the Commission:

1. The Detroit Edison Company

[Docket No. EL01-51-000]

Take notice that on March 13, 2001, The Detroit Edison Company (Detroit Edison) filed with the Federal Energy Regulatory Commission (the Commission) an unexecuted Distribution Interconnection Agreement between Detroit Edison and Dearborn Industrial Generation, L.L.C. (the Agreement). Detroit Edison requests the Commission to disclaim jurisdiction over the Agreement. In the event the Commission determines the Agreement to be subject to the Commission's jurisdiction, Detroit Edison requests that the Commission accept the Agreement for filing effective as of March 14, 2001.

Comment date: April 6, 2001, in accordance with Standard Paragraph E at the end of this notice.

2. Broad River Energy LLC

[Docket No. ER00-38-002]

Take notice that on March 9, 2001, Broad River Energy LLC (Broad River Energy), tendered for filing a Notification of Change in Status. The Notification of Change in Status is intended to inform the Commission that Broad River Energy has acquired the generation assets of its affiliate Broad River Investors LLC, consisting of Units 4 and 5, located at the Broad River Energy Center near Gaffney in Cherokee County, South Carolina. Units 4 and 5 produce a maximum electrical output of 360 MW.

Comment date: March 30, 2001, in accordance with Standard Paragraph E at the end of this notice.

3. New York Independent System Operator, Inc.

[Docket No. ER01-1489-000]

Take notice that on March 9, 2001, the New York Independent System Operator, Inc. (NYISO), tendered for filing a request for an extension of its Temporary Extraordinary Procedures for Correcting Market Design Flaws and Addressing Transitional Abnormalities.

The NYISO requests an effective date of May 1, 2001 and waiver of the Commission's notice requirements.

The NYISO has served a copy of this filing upon each person designated on the official service list compiled by the Secretary in Docket No. ER00-2624-000, on those parties who have executed service agreements under the NYISO's Open Access Transmission Tariff or Market Administration Control Area Services Tariff and on the electric utility regulatory agencies in New York, New Jersey, and Pennsylvania.

Comment date: March 30, 2001, in accordance with Standard Paragraph E at the end of this notice.

4. Illinois Power Company

[Docket No. ER01-1491-000]

Take notice that on March 12, 2001, Illinois Power Company tendered for filing a fully executed Service Agreement for Network Integration Transmission Service and Network Operating Agreement (Service Agreement) between Tri-County Electric Cooperative, Inc., and Illinois Power Company. The unexecuted Service Agreement originally was filed in this docket. Under the Service Agreement, Illinois Power Company may provide network services to Tri-County Electric Cooperative, Inc. in accordance with Illinois Power Company's FERC Electric Tariff.

Illinois Power Company has requested that the Commission accept the fully executed Service Agreement and that the Service Agreement become effective as of March 1, 2000, as did the unexecuted Service Agreement.

Illinois Power Company has served a copy of this filing upon those parties listed on the Commission's official service list, as well as on the Illinois Commerce Commission and Tri-County Electric Cooperative, Inc.

Comment date: April 2, 2001, in accordance with Standard Paragraph E at the end of this notice.

5. Public Service Company of New Hampshire

[Docket No. ER01-1492-000]

Take notice that on March 12, 2001, Public Service Company of New Hampshire, tendered for filing a Notice of Cancellation of its FERC Electric Service Rate Schedules No. 133, which provided Resale Electric Service to the Town of Ashland, New Hampshire, Electric Light Department. On the same date, Public Service Company of New Hampshire (PSNH) also filed a new Interconnection and Delivery Service Agreement with the Town of Ashland. The filing represents the termination of PSNH's full requirements, wholesale for retail service to the Town of Ashland and the beginning of PSNH supplying simple delivery service to the Town of Ashland.

Copies of this filing were served upon the Office of the Attorney General for the State of New Hampshire, and the Executive Director and Secretary of the New Hampshire Public Utilities Commission and the State of New Hampshire Office of Consumer Advocate.

Comment date: April 2, 2001, in accordance with Standard Paragraph E at the end of this notice.

6. Illinois Power Company

[Docket No. ER01-1493-000]

Take notice that on March 12, 2001, Illinois Power Company (Illinois Power), tendered for filing a fully executed Service Agreement for Network Integration Transmission Service and Network Operating Agreement (Service Agreement) between Clinton County Electric Cooperative, Inc., and Illinois Power Company. The unexecuted Service Agreement originally was filed in this docket. Under the Service Agreement, Illinois Power Company may provide network services to Clinton County Electric Cooperative, Inc. in accordance with Illinois Power Company's FERC Electric Tariff.

Illinois Power Company has requested that the Commission accept the fully executed Service Agreement and that the Service Agreement become effective as of March 1, 2000, as did the unexecuted Service Agreement.

Illinois Power Company has served a copy of this filing upon those parties listed on the Commission's official service list, as well as on the Illinois Commerce Commission and Clinton County Electric Cooperative, Inc.

Comment date: April 2, 2001, in accordance with Standard Paragraph E at the end of this notice.

7. Public Service Company of New Hampshire

[Docket No. ER01-1494-000]

Take notice that on March 12, 2001, Public Service Company of New Hampshire, tendered for filing Notice of Cancellation of its FERC Electric Service Rate Schedules No. 134, which provided Resale Electric Service to the Town of New Hampton, New Hampshire, Village Precinct (New Hampton Village Precinct). On the same date, Public Service Company of New Hampshire (PSNH) also filed a new Interconnection and Delivery Service Agreement with the New Hampton Village Precinct. The filing represents the termination of PSNH's full requirements, wholesale for retail service to the New Hampton Village Precinct and the beginning of PSNH supplying simple delivery service to the New Hampton Village Precinct.

Copies of this filing were served upon the Office of the Attorney General for the State of New Hampshire, and the Executive Director and Secretary of the New Hampshire Public Utilities Commission and the State of New Hampshire Office of Consumer Advocate.

Comment date: April 2, 2001, in accordance with Standard Paragraph E at the end of this notice.

8. Pacific Gas and Electric Company

[Docket No. ER01-1495-000]

Take notice that on March 12, 2001, Pacific Gas and Electric Company (PG&E), tendered for filing a Generator Special Facilities Agreement (GSFA), and a Generator Interconnection Agreement (GIA) between PG&E and Wheelabrator Shasta Energy Company, Inc. (Wheelabrator) (collectively Parties).

The GSFA permits PG&E to recover the ongoing costs associated with owning, operating and maintaining the Special Facilities. As detailed in the Special Facilities Agreement, PG&E proposes to charge Wheelabrator a monthly Cost of Ownership Charge equal to the rates for transmission-level, customer-financed and distribution-level, utility-financed facilities in PG&E's currently effective Electric Rule 2, as filed with the California Public Utilities Commission (CPUC). PG&E's currently effective rates of 0.31% and 1.33%, respectively, for transmission-level, customer-financed and distribution-level, utility-financed Special Facilities are contained in the CPUC's Advice Letter 1960-G/1587-E, effective August 5, 1996, a copy of which is included as Attachment 3 of this filing.

PG&E has requested certain waivers.

Copies of this filing have been served upon Wheelabrator, the California Independent System Operator Corporation and the CPUC.

Comment date: April 2, 2001, in accordance with Standard Paragraph E at the end of this notice.

9. Sundance Energy

[Docket No. ER01-1496-000]

Take notice that on March 12, 2001, Sundance Energy (Sundance), petitions the Commission for acceptance of Sundance Rate Schedule FERC No. 1; the granting of certain blanket approvals, including the authority to sell electricity at market-based rates; and the waiver of certain Commission Regulations.

Sundance intends to engage in wholesale electric power and energy purchases and sales as a marketer. Sundance is not in the business of generating or transmitting electric power. Sundance is a wholly-owned sole proprietorship of Cayse L. Cummings. Sundance has no other business interests.

Comment date: April 2, 2001, in accordance with Standard Paragraph E at the end of this notice.

10. Brooke Power, LLC

[Docket No. ER01-1497-000]

Take notice that on March 12, 2001, Brooke Power, LLC (Brooke), petitions the Commission for acceptance of Brooke Rate Schedule FERC No. 1; the granting of certain blanket approvals, including the authority to sell electricity at market-based rates; and the waiver of certain Commission Regulations.

Brooke intends to engage in electric power generation and wholesale electricity sales. Brooke's general partner is Antelope Hills Partners, LP, a general partnership whose partners include Chrystal Investments, LLC, as general partner, Virginia Trust #2, limited partner, and Richard Woodall, Incorporated, limited partner. Chrystal Investments, LLC is primarily engaged in general investing. Antelope Hills, LP is primarily engaged in investing in oil and gas exploration and production.

Comment date: April 2, 2001, in accordance with Standard Paragraph E at the end of this notice.

11. American Transmission Systems, Inc.

[Docket No. ER01-1498-000]

Take notice that on March 12, 2001, American Transmission Systems, Inc., tendered for filing a Service Agreement to provide Non-Firm Point-to-Point Transmission Service for Ameren Energy Marketing Company, the Transmission Customer. Services are being provided under the American Transmission Systems, Inc., Open Access Transmission Tariff submitted for filing by the Federal Energy Regulatory Commission in Docket No. ER99-2647-000.

The proposed effective date under the Service Agreement is March 9, 2001 for the above mentioned Service Agreement in this filing.

Comment date: April 2, 2001, in accordance with Standard Paragraph E at the end of this notice.

12. American Transmission Systems, Inc.

[Docket No. ER01-1499-000]

Take notice that on March 12, 2001, American Transmission Systems, Inc., tendered for filing a Service Agreement to provide Firm Point-to-Point Transmission Service for Ameren Energy Marketing Company, the Transmission Customer. Services are being provided under the American Transmission Systems, Inc., Open Access Transmission Tariff submitted for filing by the Federal Energy Regulatory Commission in Docket No. ER99-2647-000.

The proposed effective date under the Service Agreement is March 9, 2001 for the above mentioned Service Agreement in this filing.

Comment date: April 2, 2001, in accordance with Standard Paragraph E at the end of this notice.

13. The Dayton Power and Light Company

[Docket No. ER01-1500-000]

Take notice that on March 12, 2001, The Dayton Power and Light Company (Dayton), tendered for filing service agreements establishing Allegheny Energy Supply Company, LLC as customers under the terms of Dayton's Open Access Transmission Tariff.

Dayton requests an effective date of one day subsequent to this filing for the service agreements. Accordingly, Dayton requests waiver of the Commission's notice requirements.

Copies of this filing were served upon Allegheny Energy Supply Company, LLC and the Public Utilities Commission of Ohio.

Comment date: April 2, 2001, in accordance with Standard Paragraph E at the end of this notice.

14. Consumers Energy Company

[Docket No. ER01-1501-000]

Take notice that on March 12, 2001, Consumers Energy Company (Consumers), tendered for filing a Letter Agreement between Dynegy Engineering, Inc., as agent for Westdeutsche Landesbank Girozentrale, New York Branch [Generator] and Consumers, dated February 16, 2001, (Agreement). Under the Agreement, Consumers is to undertake certain pre-construction activities associated with providing an electrical connection between Consumers' transmission system and a generating plant to be built by Generator.

Consumers requests that the Agreements be allowed to become effective January 8, 2001.

Copies of the filing were served upon Generator and the Michigan Public Service Commission.

Comment date: April 2, 2001, in accordance with Standard Paragraph E at the end of this notice.

15. Northern Indiana Public Service Company

[Docket No. ER01-1502-000]

Take notice that on March 12, 2001, Northern Indiana Public Service Company tendered for filing an executed Standard Transmission Service Agreement for Firm Point-to-Point Transmission Service between Northern Indiana Public Service Company and Aquila Energy Marketing Corporation (Aquila Energy).

Under the Transmission Service Agreement, Northern Indiana Public Service Company will provide Point-to-Point Transmission Service to Aquila Energy pursuant to the Transmission Service Tariff filed by Northern Indiana Public Service Company in Docket No. OA96-47-000 and allowed to become effective by the Commission.

Northern Indiana Public Service Company has requested that the Service Agreement be allowed to become effective as of June 1, 2001.

Copies of this filing have been sent to Aquila Energy Marketing Corporation, the Indiana Utility Regulatory Commission, and the Indiana Office of Utility Consumer Counselor.

Comment date: April 2, 2001, in accordance with Standard Paragraph E at the end of this notice.

16. Northern Indiana Public Service Company

[Docket No. ER01-1503-000]

Take notice that on March 12, 2001, Northern Indiana Public Service Company tendered for filing an executed Standard Transmission Service Agreement for Firm Point-to-Point Transmission Service between Northern Indiana Public Service Company and Aquila Energy Marketing Corporation (Aquila Energy).

Under the Transmission Service Agreement, Northern Indiana Public Service Company will provide Point-to-Point Transmission Service to Aquila Energy pursuant to the Transmission Service Tariff filed by Northern Indiana Public Service Company in Docket No. OA96-47-000 and allowed to become effective by the Commission.

Northern Indiana Public Service Company has requested that the Service Agreement be allowed to become effective as of April 1, 2001.

Copies of this filing have been sent to Aquila Energy Marketing Corporation, the Indiana Utility Regulatory Commission, and the Indiana Office of Utility Consumer Counselor.

Comment date: April 2, 2001, in accordance with Standard Paragraph E at the end of this notice.

17. Xcel Energy Services Inc.

[Docket No. ER01-1504-000]

Take notice that on March 12, 2001, Xcel Energy Services Inc. (XES), on behalf of Public Service Company of Colorado (Public Service), tendered for filing a Master Power Purchase and Sale Agreement between Public Service and City of Azusa, which is an umbrella service agreement under Public Service's Rate Schedule for Market-Based Power Sales (Public Service FERC Electric Tariff, First Revised Volume No. 6).

XES requests that this agreement become effective on March 8, 2001.

Comment date: April 2, 2001, in accordance with Standard Paragraph E at the end of this notice.

18. Central Illinois Light Company

[Docket No. ER01-1505-000]

Take notice that on March 12, 2001, Central Illinois Light Company (CILCO), 300 Liberty Street, Peoria, Illinois 61202, tendered for filing with the Commission an Index of Customers under its Market Rate Power Sales Tariff and one service agreement with one new customer, the Village of Riverton.

CILCO requested an effective date of March 1, 2001.

Copies of the filing were served on the affected customer and the Illinois Commerce Commission.

Comment date: April 2, 2001, in accordance with Standard Paragraph E at the end of this notice.

19. The Dayton Power and Light Company

[Docket No. ER01-1506-000]

Take notice that on March 12, 2001, The Dayton Power and Light Company (Dayton), tendered for filing a service agreement establishing Consumers Energy, as a customer under the terms of Dayton's FERC Electric Tariff, Original Volume No. 10.

Dayton requests an effective date of one day subsequent to this filing for the service agreements. Accordingly, Dayton requests waiver of the Commission's notice requirements.

Copies of this filing were served upon Consumers Energy and the Public Utilities Commission of Ohio.

Comment date: April 2, 2001, in accordance with Standard Paragraph E at the end of this notice.

20. Lumberton Power, LLC

[Docket No. ER01-1507-000]

Take notice that on March 12, 2001, Lumberton Power, LLC (Lumberton) tendered for filing an application for waivers and blanket approvals under various regulations of the Commission and for an order accepting Lumberton's FERC Electric Rate Schedule No. 1 and accompanying Code of Conduct.

Lumberton requests waiver of the 60-day prior notice requirement to permit Lumberton's Rate Schedule and Code of Conduct to be effective May 1, 2001, and requests expeditious Commission approval of this Application prior to May 1, 2001.

Lumberton intends to engage in electric power and energy transactions as a marketer. In transactions where Lumberton sells electric energy, it proposes to make such sales on rates, terms and conditions to be mutually agreed to with the purchasing party. Lumberton's proposed Rate Schedule also permits it to reassign transmission capacity.

Comment date: April 2, 2001, in accordance with Standard Paragraph E at the end of this notice.

21. American Transmission Company LLC

[Docket No. ER01-1508-000]

Take notice that on March 12, 2001, American Transmission Company LLC (ATCLLC), tendered for filing a Firm Point to Point Service Agreement with Consolidated Water Power Company.

ATCLLC requests an effective date of January 1, 2001.

Comment date: April 2, 2001, in accordance with Standard Paragraph E at the end of this notice.

22. Elizabethtown Power, LLC

[Docket No. ER01-1509-000]

Take notice that on March 12, 2001, Elizabethtown Power, LLC (Elizabethtown), tendered for filing an application for waivers and blanket approvals under various regulations of the Commission and for an order accepting Elizabethtown's FERC Electric Rate Schedule No. 1 and accompanying Code of Conduct.

Elizabethtown requests waiver of the 60-day prior notice requirement to permit Elizabethtown's Rate Schedule and Code of Conduct to be effective May 1, 2001, and requests expeditious Commission approval of this Application prior to that date.

Elizabethtown intends to engage in electric power and energy transactions as a marketer. In transactions where Elizabethtown sells electric energy, it proposes to make such sales on rates, terms and conditions to be mutually agreed to with the purchasing party. Elizabethtown's proposed Rate Schedule also permits it to reassign transmission capacity.

Comment date: April 2, 2001, in accordance with Standard Paragraph E at the end of this notice.

23. New York Independent System Operator, Inc.

[Docket No. ER01-1517-000]

Take notice that on March 12, 2001, the New York Independent System Operator, Inc. (NYISO), acting pursuant to Section 205 of the Federal Power Act at the direction of the NYISO's independent Board of Directors (NYISO Board) with the concurrence of the Management Committee, filed a proposed amendment to the NYISO's Market Administration and Control Area Services Tariff. The proposed amendment would extend the duration of bid caps in certain NYISO-administered markets until October 31, 2002.

The NYISO requests a waiver of the Commission's notice requirements.

A copy of this filing was served upon all parties in Docket No. ER01-181-000, on all parties that have executed Service Agreements under the NYISO's Open Access Transmission Tariff or Market Administration and Control Area Services Tariff, and on the electric utility regulatory agencies in New York, New Jersey, and Pennsylvania.

Comment date: April 2, 2001, in accordance with Standard Paragraph E at the end of this notice.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-7201 Filed 3-22-01; 8:45 am]

BILLING CODE 6717-01-P